DEPARTMENT OF AGRICULTURE

Forest Service

McNally Reforestation EIS

AGENCY: Forest Service, USDA.

ACTION: Notice of Intent to prepare an environmental impact statement.

SUMMARY: The Department of Agriculture, Forest Service, is preparing an environmental impact statement (EIS) to re-establish conifers and hardwoods in key areas that burned during the McNally and Manter fires on the Sequoia National Forest.

DATES: The public is asked to submit any issues (points of concern, debate, dispute, or disagreement) regarding potential effects of the proposed action by May 23, 2005. The draft EIS is expected to be available for public comment in June, 2005, and the final EIS is expected to be published in December, 2005.

ADDRESSES: Send written comments to: Jim Whitfield, EIS Team Leader, USDA Forest Service, Sequoia National Forest, 900 West Grand Avenue, Porterville, CA 93257.

FOR FURTHER INFORMATION CONTACT: Jim Whitfield, EIS Team Leader, Sequoia National Forest, at the address listed above. The phone number is (559) 784-1500. Public field trips will be held to allow the public to view the project areas prior to a decision on the project. Information on the times, dates, locations, and agendas for these meetings will be provided in local newspapers, on the Sequoia National Forest and Giant Sequoia National Monument Web site, and by direct mailings.

SUPPLEMENTARY INFORMATION:

Background

In July and August of 2000 and 2002, the Sequoia National Forest and the Giant Sequoia National Monument experienced two large wildfires that burned extensive areas of the forest and fragmented important wildlife habitats. The Manter fire in 2000, burned over 74,000 acres and the McNally fire in 2002, burned over 150,000 acres for a total of approximately 224,000 acres. Restoration projects were analyzed and approved in an environmental assessment for the Manter fire area and in an environmental impact statement for the Sherman Pass portion of the McNally fire area.

Following initial implementation of these two decisions, the site conditions in portions of the burned areas that were already planned for reforestation changed. In addition, portions of the Chico and Rincon Roadless Areas and the Giant Sequoia National Monument, which were not dealt with in either the Manter or McNally-Sherman Pass environmental documents, are in need of treatment. In all, surveys indicate that up to 8,000 acres will need treatment to re-establish desired forest conditions within 200 years. Competing vegetation and populations of pocket gophers have become established at levels that will reduce the survival of planted trees. Due to the current condition of these areas, successful reforestation in a timely manner will require planting in some areas and may require the use of herbicides, pesticides, and rodenticides to control competing vegetation, the spread of root disease, and the harmful effects from gophers.

Purpose and Need for Action

The need for management action arises when conditions on the ground do not meet desired conditions. It is important to restore certain burned areas of native forest habitat, both conifer and hardwood, in order to move the land toward its desired conditions, as fully described in the Sequoia's Land and Resource Management Plan, as amended. The desired conditions for the project area are briefly described below:

(1) Provide forest structure and function across old forest emphasis areas that generally resemble pre-settlement conditions, with high levels of horizontal and vertical diversity.

(2) Maintain on re-establish key wildlife habitat for species including the California spotted owl, northern goshawk, and Pacific fisher.

Conditions on the ground are not moving toward desired conditions in a timely manner without active management, primarily due to vegetation competition for water. The areas affected by the fires experience extended summer drought, typical of our Mediterranean climate, and the coarse, rocky soils do not hold much water. Due to these conditions, moisture is the most limiting factor for timely conifer establishment and growth in the project area. Shrubs, forbs, and grasses have colonized and now fully occupy portions of the burned areas. Where the roots of these competing plants occupy the soil profile, very little moisture is available to planted or natural conifer seedlings unless the competing plants are treated in some manner. Experience in the Sequoia National Forest, the Giant Sequoia National Monument, and throughout the region clearly shows that successful reforestation of conifers is dependent on active management to control competing shrubs, forbs, and grasses for the first one to five years following planting. This allows the young conifers to establish and develop. Once the planted trees are established and their roots well developed, more competing plants can be tolerated.

In addition to competing vegetation, pocket gopher populations have increased in the burned areas. Gophers feed on young trees, as well as forbs and grasses. In the winter, when other vegetation is unavailable to the gophers, evergreen conifers become a primary source of food. Gophers feed on the roots and stems of the trees as they burrow underground and through the snow. Roots and bark of young seedlings are totally stripped away and the girdled seedlings die. Even a few active gopher colonies per acre can decimate young plantations. In order to assure successful reforestation where gophers are present, it is essential to control their populations before planting and during the first few years of conifer establishment, until the planted trees reach a size where they are more resistant to damage.

There are large areas of the fire where all or most of the conifers were killed. In these areas there will be little or no natural seed available for natural regeneration of conifers. In areas where natural seed is not available, reforestation of conifers will require planting for successful regeneration to occur in a timely manner.

Some areas burned in the fire will be reforested with hardwood species. In some cases, reforesting the burned area with native hardwoods will be easier than reforesting native conifers due to the ability of some hardwood species to sprout from roots that remain following the fire.

The tree of heaven, a non-native weed tree, is present and expanding its range along the Kern River within the McNally fire area. It is producing abundant root sprouts and creating dense thickets, which are displacing the native cottonwood/willow forest.

Proposed Action

In order to meet the above Purpose and Need the Cannell Meadow and Hot Springs Ranger Districts propose to reforest key areas burned during the McNally fire of 2002 and the Manter fire of 2000. Approximately 40% of the proposed reforestation areas are located within roadless areas. The project area encompasses approximately 8,000 acres and is located in Townships 20, 21, 22, and 23 South, Ranges 32, 33, 34, and 35 East, Mount Diablo Base and Meridian (MDB&M). The project area is in Tulare County, California.

In order to move toward the desired condition for diverse forest habitat, reforestation will reestablish conifer and hardwood species. Reestablishing native forest will be accomplished with a combination of planting, natural seeding, and sprouting of native trees. In addition to reforestation, approximately 20 acres of non-native, invasive trees (tree of heaven) will be eliminated.

Potential reforestation activities include preparing the planting sites to improve planting success, planting trees, reducing live vegetation that may compete with planted or naturally regenerated trees, reducing gopher populations that may damage or kill young conifers, reducing standing or down fuels to reduce short and long-term impacts to regenerated trees, and eliminating the invasive tree of heaven. Methods may include the use of mechanical equipment such as excavators and bulldozers for masticating or clearing competing live vegetation or dead trees and plants; the use of ground or aerial equipment for applying herbicides; and the use of hand-held equipment for planting trees, applying herbicides, applying poisoned bait to control gophers, applying pesticides to cut stumps to prevent the spread of root disease, removing competing vegetation, piling dead trees and plants, and burning undesirable live or dead vegetation.

The analysis will be consistent with the Sequoia National Forest Land Management Plan (LRMP) as amended by the Sierra Nevada Forest Plan Amendment, 2004 (SNFPA) and the Giant Sequoia National Monument Plan, 2004 (GSNM).

Preliminary Issues

Recent experience indicates that the use of herbicides, pesticides, and rodenticides to control competing vegetation and gophers and the need to quickly re-establish hardwood and conifer habitat are controversial. There is also controversy over actively replanting an area with conifers, along with the associated site preparation and release work, versus allowing nature to take its course by letting conifers and other native trees seed in from residual trees.

Decisions To Be Made and Responsible Official

The decision to be made is whether to implement the Proposed Action as described above, or to meet the purpose and need for action through some other combination of management actions, or to defer any action at this time.

The Responsible Official is District Ranger David M. Freeland, Sequoia National Forest, Greenhorn/Cannell Meadow Ranger Districts, P.O. Box 3810, Lake Isabella, CA 93240.

Coordination With Other Agencies

In the preparation of the EIS, the Forest Service will consult with the State Historic Preservation Office, and other federal and state agencies as appropriate, as well as Native American Tribes.

Commenting

Comments received in response to this invitation to participate in public scoping or any future solicitation for public comments on a draft environmental impact statement, including names and addresses of those who comment, will be considered part of the public record and will be available for public inspection. Comments submitted anonymously will be accepted and considered. Additionally, pursuant to 7 CFR 1.27(d), any person may request the agency to withhold a submission from the public record by showing how the Freedom of Information Act (FOIA) permits such confidentiality. Persons requesting such confidentiality should be aware that under the FOIA confidentiality may be granted in only very limited circumstances, such as to protect trade secrets. The Forest Service will inform the requester of the agency's decision regarding the request for confidentiality, and where the request is denied, the agency will return the submission and notify the requester that the comments may be resubmitted with or without name and address.

The comment period on the draft environmental impact statement will be 45 days from the date the Environmental Protection Agency publishes the notice of availability in the Federal Register.

The Forest Service believes that, at this early stage, it is very important to give reviewers notice of several court rulings related to public participation in the environmental review process. First, reviewers of a draft environmental impact statement must structure their participation in the environmental review of the proposal so that it is meaningful and alerts the agency to the reviewer's position and contentions. Vermont Yankee Nuclear Power Corp. v. NRDC, 435 U.S. 519, 533 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. Supp. 1334 (E.D. Wis. 1980). Because of these court rulings, it is very important that persons interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy or the merits of the alternatives formulated and discussed in the statement. Reviewers may wish to refer to the Council on Environmental Quality Regulations for implementing the procedural provisions of the National Environmental Policy Act at 40 CFR 1503.3 in addressing these points.

Dated: April 13, 2005.
Arthur L. Gaffrey,
Forest Supervisor, Sequoia National Forest.

[FR Doc. 05-7788 Filed 4-18-05; 8:45 am]

BILLING CODE 3410-11-M